DEPARTMENT OF LABOR

Employment and Training Administration

[TA-W-60,819]

Enhanced Mfg. Solutions Formerly Known as Viking New Castle, LLC Including Leased Workers of HSS Material Management Solutions and Oberle & Associates, Inc. Working On-Site at Delphi, New Castle, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 13, 2007, applicable to workers of Enhanced Mfg. Solutions, formerly known as Viking New Castle, LLC, working on-site at Delphi, New Castle, Indiana. The notice was published in the Federal Register on February 27, 2007 (72 FR 8794).

At the request of the State agency, the Department reviewed the certification for workers of the subject firm. The workers are contracted to produce steering columns on-site at Delphi.

New information shows that leased workers of HSS Material Management Solutions and Oberle & Associates, Inc. were employed on-site at the New Castle, Indiana location of Delphi.

Based on these findings, the Department is amending this certification to include leased workers of HSS Material Management Solutions and Oberle & Associates, Inc. working on-site at Delphi, New Castle, Indiana.

The intent of the Department's certification is to include all workers employed on-site at Delphi, New Castle, Indiana who were adversely affected by a shift in production to Mexico.

The amended notice applicable to TA-W-60,819 is hereby issued as follows:

All workers of Enhanced Mfg. Solutions, formerly known as Viking New Castle, LLC, including leased workers of HSS Material Management Solutions and Oberle & Associates, Inc., working on-site at Delphi, New Castle, Indiana, who became totally or partially separated from employment on or after January 15, 2006, through February 13, 2009, are eligible to apply for adjustment assistance under Section 223 of the Trade Act of 1974, and are also eligible to apply for alternative trade adjustment assistance under Section 246 of the Trade Act of 1974.

Signed at Washington, DC, this 20th day of April 2007.
Richard Church,
Certifying Officer, Division of Trade Adjustment Assistance.

[FR Doc. E7-7966 Filed 4-25-07; 8:45 am]

BILLING CODE 4510-FN-P